ENVIRONMENTAL PROTECTION AGENCY

[FRL-9302-9]

Re-Issuance of a General Permit to the National Science Foundation for the Ocean Disposal of Man-Made Ice Piers From McMurdo Station in Antarctica; Proposed Permit

AGENCY: Environmental Protection Agency (EPA).

ACTION: Notice.

SUMMARY: EPA proposes to re-issue a permit authorizing the National Science Foundation (NSF) to dispose of ice piers in ocean waters. Permit re-issuance is necessary because the current permit has expired. EPA does not propose changes to the content of the permit because ocean disposal under the terms of the previous permit will continue to meet the ocean disposal criteria.

DATES: Written comments on this proposed general permit will be accepted until June 8, 2011. All comments must be received or postmarked by midnight of June 8, 2011, or must be delivered by hand by the close of business of that date to the address specified below.

ADDRESSES: This proposed permit is identified as Docket No. EPA-HQ-OW-2011-0306. Submit your comments by one of the following methods:

Mail: Send an original and three copies of your comments and enclosures (including references) to Water Docket, U.S. Environmental Protection Agency, Mail Code: 2822-IT, 1200 Pennsylvania Avenue, NW., Washington, DC 20460, Attention Docket No. EPA-HQ-OW-2011-0306.

Hand delivery: EPA Water Docket, EPA Docket Center, EPA West Building, Room 3334, 1301 Constitution Avenue, NW., Washington, DC 20460, Docket No. EPA-HQ-OW-2011-0306. Deliveries to the docket are accepted only during their normal hours of operation: 8:30 a.m. to 4:30 p.m., Monday through Friday, excluding legal holidays. For access to docket materials, call: 202/566-2426, to schedule an appointment.

E- mail: ow-docket@epa.gov; Attention Docket No. EPA-HQ-OW-2011-0306. To ensure that EPA can properly respond to comments, commenters should cite the paragraph(s) or sections in the proposed permit to which each comment refers. Commenters should use a separate paragraph for each issue discussed, and must submit any references cited in their comments. If you submit an electronic comment, EPA recommends that you include your name and other contact information in the body of your comment. Electronic files should avoid any form of encryption and should be free of any defects or viruses.

FOR FURTHER INFORMATION CONTACT: Jonathan Amson, Senior Marine Scientist, Marine Pollution Control Branch, Oceans and Coastal Protection Division (4504T), U.S. Environmental Protection Agency, 1200 Pennsylvania Avenue, NW., Washington, DC 20460; telephone: 202/566-1276.

SUPPLEMENTARY INFORMATION: On February 14, 2003, EPA issued a general permit to the National Science Foundation (NSF) for ocean disposal of man-made ice piers from its base at McMurdo Station in Antarctica. This ocean dumping permit had a term of seven years. It remains in effect under the Administrative Procedure Act, 5 U.S.C. 558(c), after its February 18, 2010 expiration because NSF applied for re-issuance prior to expiration. The purpose of today's proposed general permit is to re-issue the 2003 permit for another seven-year period. The re-issued permit will allow the NSF to ocean dispose the ice pier currently in use at McMurdo Station, which is at the end of its service life.

EPA proposes to re-issue the general permit under Sections 102(a) and 104(c) of the Marine Protection, Research, and Sanctuaries Act (MPRSA) to authorize the NSF to dispose of man-made ice piers in ocean waters from McMurdo Station in Antarctica. The NSF is the entity of the United States Government responsible for oversight of the United States Antarctic Program. The NSF currently operates three major bases in Antarctica: McMurdo Station on Ross Island, adjacent to McMurdo Sound; Palmer Station, near the western terminus of the Antarctic Peninsula; and Amundsen-Scott Station, at the geographic South Pole. McMurdo Station is the largest of the three bases, and serves as the primary logistics base for Antarctica. The great majority of personnel and supplies destined for the three stations are unloaded at, and pass through, McMurdo Station. To unload supplies, ships dock at an ice pier. Man-made ice piers have a normal life span of three to five years; the current ice pier, constructed in 1999, is over ten years old, and is effectively at the end of its service life.

When an ice pier is at the end of its effective life, all transportable equipment, materials, and debris are removed; the pier is cast loose from its moorings at the base. It is then towed out to McMurdo Sound for disposal, where it disintegrates naturally. Re-issuance of this general permit is necessary because the pier must be towed out to sea for disposal at the end of its effective life. This proposed general permit is intended to protect the marine environment by setting forth specific permit terms and conditions including operating conditions that occur over the life of the pier. It also describes required clean-up actions that the NSF must comply with before the disposal of any ice pier can take place.

A. Background on McMurdo Station Ice Pier

For background information on the McMurdo Station ice pier, the reader is referred to the Federal Register notice of January 7, 2003 (68 FR 775-780), which is hereby incorporated by reference into this notice. None of the stipulated facts of Section A (“Background on McMurdo Station Ice Pier”) of the January 7, 2003, notice have changed since its issuance on that date. The materials to be dumped (other than the ice in the pier itself, which melts naturally) include materials used in construction of the ice pier that cannot be removed prior to disposal. As explained in the January 7, 2003, notice, construction of an ice pier at McMurdo Station involves the following types and approximate quantities of materials that are normally used: (a) 6,300 m (21,000 ft) of one-inch steel cable; (b) 200 m (650 ft) of two-inch steel pipe; (c) three or four chemically-untreated wooden utility poles approximately one-foot in diameter, (d) several steel bollards; and (e) 4,200 cubic meters (5,000 cubic yards) of gravel, 2 cm or smaller in size. When the pier has deteriorated to the point that it is no longer capable of being used during the next operating season, the wooden poles are cut off just above the surface of the ice, the steel bollards are blasted loose and removed, the gravel is scraped off and stored for use during the next operating season, all transportable equipment, materials, and debris are removed, and the pier is separated from its attachment at McMurdo Station at the end of the austral summer. It is then towed by a ship into McMurdo Sound past the northern end of the open channel in the ice, as close to the Ross Sea currents as possible. The pier is cast loose in a direction to allow it to flow with the Ross Sea currents, away from the open channel in the ice. The pier will then float amidst the ice pack, where it mixes with the annual Antarctic sea ice, and eventually disintegrates.

B. Statutory and Regulatory Background

1. Obligations Under United States Law

Section 102(a) of the MPRSA, 33 U.S.C. 1412(a), requires that agencies or instrumentalities of the United States obtain a permit to transport any material from any location for the purpose of dumping into ocean waters. MPRSA Section 104(c), 33 U.S.C. 1414(c), and EPA regulations at 40 CFR 220.3(a) authorize the issuance of a general permit under the MPRSA for the dumping of materials which have a minimal adverse environmental impact, and are generally disposed of in small quantities. The proposed towing of ice piers by the NSF from McMurdo Station for disposal at sea constitutes transportation of material for the purpose of dumping in ocean waters; thus, it is subject to the requirements of the MPRSA. Ocean disposal of the materials incorporated into the ice pier will have a minimal adverse environmental impact, and represents comparatively small quantities of non-recoverable, non-ice matter.

The NSF has completed a United States Antarctic Program (USAP) Environmental Impact Statement (June 1980), a USAP Final Supplemental Environmental Impact Statement (October 1991), and an Initial Environmental Evaluation (May 1992). More recently, the NSF has issued two Records of Environmental Review: Installation of Freeze Cells in Ice Piers (1998), and Use of Freeze Cells in Ice Piers to Repair Cracks (2000). All these documents address various aspects of the construction, operation, and disposal of ice piers at McMurdo Station in Antarctica, and are available for review at the Office of Polar Programs of the NSF, 4201 Wilson Boulevard, Arlington, VA 22230. (For further information, contact Polly Penhale, at 703/292-7420). None of these documents identified any potential environmental impacts from the disposal of ice piers, other than the minor navigational hazard equivalent to that posed by an ice floe or a small iceberg. The Agency considered the analyses contained in the five documents in developing this proposed re-issuance of the general permit for the NSF.

2. Obligations Under International Law

The Antarctic Science, Tourism, and Conservation Act of 1996 amended the Antarctic Conservation Act of 1978. This law is designed to implement the provisions of the Protocol on Environmental Protection to the Antarctic Treaty (“the Protocol”). The United States Senate ratified the Protocol on April 17, 1997, and it entered into force on January 18, 1998. The Protocol builds on the Antarctic Treaty to extend its effectiveness as a mechanism for ensuring protection of the Antarctic environment. It designates Antarctica as a natural reserve, devoted to peace and science, and sets forth basic principles as well as detailed mandatory rules that are applicable to human activities in Antarctica. It prohibits all activities relating to mineral resources on the continent, except for scientific research. It commits signatories (known as Parties) to the Protocol to complete environmental impact assessment procedures for proposed activities, both governmental and private. Among other things, it requires Parties to protect Antarctic flora and fauna, and it imposes strict limitations on disposal of wastes on the continent, as well as discharges of pollutants in Antarctic waters.

Several sets of regulations exist that assist in the implementation of the Protocol. These include: (a) NSF regulations regarding environmental impact assessment of proposed Foundation actions in Antarctica (45 CFR Part 641), (b) NSF waste regulations for Antarctica (45 CFR Part 671), and (c) EPA regulations regarding environmental impact assessment of non-governmental activities in Antarctica (40 CFR Part 8).

EPA's proposal to re-issue a general permit under the MPRSA does not conflict with obligations under the Protocol and any implementing legislation. EPA has coordinated with other responsible authorities, as appropriate, in EPA's consideration of the issuance of a general permit under the MPRSA.

C. Potential Effects of Ice Pier Disposal

EPA's findings regarding (a) the fate of materials disposed in the ocean, (b) the potential effects of ice pier disposal on organisms in the polar marine environment, such as cetaceans (whales), pinnipeds (seals), avian species, and endangered or threatened species, and (c) environmental concerns associated with any operational discharges, leaks, or spills that may have contaminated the surface of the ice pier over the period of its existence are explained in Section C of the January 7, 2003, notice, and have not changed, with one exception. That exception is the updated spill prevention, control, and countermeasures (SPCC) plan, which is described below.

EPA notes that the NSF has a SPCC plan for all the stations and bases under NSF jurisdiction in Antarctica. That plan, initially formulated in 1994, has been updated by NSF, and is titled: SPCC Plan for McMurdo Station, McMurdo Sound, Antarctica; the final document is dated January 7, 2010. The SPCC plan includes a section addressing fuel storage and transfer systems for the ice pier at McMurdo Station. EPA adopts the findings from the January 7, 2010, notice in its proposed permit today.

D. Discussion

This new general permit that EPA proposes to re-issue to NSF and its agents for the ocean dumping of man-made ice piers from NSF's McMurdo Station, Antarctica, is subject to specific conditions. This proposed general permit applies only to the ocean dumping of man-made ice piers from the NSF base at McMurdo Station, Antarctica. Agents of the NSF are included in the permit because transportation for the purpose of dumping an ice pier may be by vessels which are not under the direct ownership or operational control of the NSF. Section 104(a) of the MPRSA provides that permits shall be issued for a period not to exceed seven years (33 U.S.C. 1414(a)); thus, the term of this proposed permit is limited to seven years from the date of issuance.

With the institution of new protective measures, such as longer length hoses for unloading petroleum products from the annual supply tanker, and new precautions taken in the handling and return to bases outside of Antarctica of used and contaminated chemicals, solvents, and hazardous materials, the chance of a spill or discharge of these materials is low. There is considerable vehicular traffic on the ice pier during the austral summer season, and the possibility of leaks or discharges from these vehicles cannot be totally avoided. However, the NSF has informed EPA that vehicles are parked on the pier for only brief periods of time, ranging from a few minutes to less than an hour, and that no vehicles are ever parked on the pier overnight. Additionally, such small discharges are typically contained within the temporary gravel cover, which is removed prior to ocean disposal.

The proposed general permit establishes several specific conditions that shall be met during the life of, and prior to the dumping of, the ice pier. In addition, it requires the NSF to report by June 30 of every year to the Director of the Oceans and Coastal Protection Division, in EPA's Office of Water, on any spills, discharges, or clean-up procedures on the ice pier, and on any dumping of ice piers from McMurdo Station that are conducted under this general permit.

This general permit requires that the NSF have an SPCC plan in place for the ice pier. This plan must address (specified in Item 1 in the permit):

(a) The unloading of petroleum products from supply tankers to the storage tanks at McMurdo Station;

(b) The unloading of drummed chemicals, petroleum products, and material from cargo freighters to supply depots at McMurdo Station; and

(c) The loading of materials to freighters that are destined to be returned to bases outside of Antarctica.

The proposed permit requires that the SPCC plan include methods to minimize the accidental release or discharge of any products to the ice pier. In addition, the proposed general permit requires that the following clean-up and reporting procedures must be followed by NSF in the event of a spill or discharge on the pier (specified in Item 2 in the permit):

(a) All spills or discharges must be cleaned up within two hours of the spill or discharge, or as soon as possible thereafter;

(b) If a spill or discharge occurs, clean-up procedures must be completed to a level below any visible evidence of the spill or discharge;

(c) As part of normal permit monitoring requirements, an official record of the following information shall be kept by NSF (specified in Item 3 in the permit):

(1) The date and time of all spills or discharges, the location of the spill or discharge, the approximate volume of the spill or discharge, the clean-up procedures employed, and the results of those procedures;

(2) The number of wooden poles remaining in the pier at the time of release from McMurdo Station, and their approximate length;

(3) The approximate length of the steel cables remaining in the pier at the time of its release;

(4) Any other non-ice substances remaining on the pier at the time of its release; and

(5) The date of detachment of the pier from McMurdo Station, and the geographic coordinates (latitude and longitude) of the point of final release of the pier in McMurdo Sound or the Antarctic Sea.

(d) A copy of this record shall be submitted to the Director of the Oceans and Coastal Protection Division, in the Office of Water, at EPA Headquarters, by June 30 of every year as part of the annual reporting requirements.

The conditions specified in the proposed permit are intended to protect the Antarctic environment against release of contaminants from the McMurdo Station ice pier following its ocean dumping and subsequent disintegration and melting.

Furthermore, the NSF is directed, as a condition of this permit, to utilize a methodology to track any ice piers released from McMurdo Station for a period of one year from the date of release of the pier (specified in Item 5(c) of the permit). Such methodologies may include the use of satellite-tracked pingers placed on the ice pier, or any other methodology that will allow data to be collected on the course, speed, and location of the released ice pier. The results of these tracking efforts shall be included in the reports that NSF is required to submit to EPA. The period of one year was chosen by EPA for several reasons. First, batteries for pinger-tracking operations beyond a period of one year become considerably heavier and bulkier (and a greater source of pollution to the marine environment when the ice pier eventually disintegrates and melts); and second, one year's tracking measurements should provide substantial evidence about the geographic track of ice piers during the disintegration process. The NSF shall submit tracking reports to EPA for all releases of ice piers from McMurdo Station under this permit. If tracking results demonstrate that all ice piers released have generally followed the same geographic path and time of disintegration for the one year following release, EPA will consider whether further tracking efforts and reports shall be required from NSF in any future issuances of this permit.

EPA received the tracking records from NSF of the last release of an ice pier from McMurdo Station. The pier was released on February 14, 1999, and travelled in a generally northern direction into the Southern Ocean; it was tracked until the pinger signal was lost on December 7, 1999. However, the ice pier only showed movement from the time of its release until May 1, 1999; from that time until December 7th, there was no further travel of the pier, and it is assumed it was frozen into the Antarctic ice pack. The following table provides information on the path of the ice pier from February 14 to May 1, 1999:

Date | Latitude | Longitude
February 14, 1999 | 77.75° S. | 166.37° E.
February 28, 1999 | 76.92° S. | 162.90° E.
March 15, 1999 | 75.43° S. | 167.35° E.
March 30, 1999 | 73.48° S. | 170.91° E.
April 10, 1999 | 70.77° S. | 169.46° E.
April 20, 1999 | 70.53° S. | 168.06° E.
May 1, 1999 | 70.38° S. | 167.22° E.

Using a great circle distance calculator, it can be determined that, from the time of its release until the pier was frozen into the ice pack, the ice pier travelled a total distance of 526 statute miles, or 457 nautical miles.

Considering that any contaminants remaining on the surface of the pier are expected to be extremely small, and that the area over which the disintegration and melting of the piers is immense (and probably incalculable), the potential for damage to the environment from the ocean dumping of ice piers from McMurdo Station, in Antarctica, is minimal. In addition, the possibility of entanglement of any large organisms in suspended loops of cable from the melting piers has been determined by EPA to be very minimal; further discussion of this issue can be found in “C. Potential Effects of Ice Pier Disposal”, in the January 7, 2003 notice.

Statutory and Executive Order Reviews

A. Paperwork Reduction Act

The Paperwork Reduction Act, 44 U.S.C. 3501 et seq., is intended to minimize the reporting and record-keeping burden on the regulated community, as well as to minimize the cost of Federal information collection and dissemination. In general, the Act requires that information requests and record-keeping requirements affecting ten or more non-Federal respondents be approved by the Office of Management and Budget. Since this proposed general permit affects only a single Federal agency's record-keeping and reporting requirements, it is not subject to the requirements of the Paperwork Reduction Act.

B. Endangered Species Act

The Endangered Species Act (ESA) imposes duties on Federal agencies regarding endangered species of fish, wildlife, or plants and habitat of such species that have been designated as critical. Section 7(a)(2) of the ESA and its implementing regulations (50 CFR Part 402) require EPA to ensure, in consultation with the Secretary of the Interior or Commerce, that any action authorized, funded, or carried out by EPA in the United States or upon the high seas, is not likely to jeopardize the continued existence of any endangered or threatened species, or adversely affect their critical habitat.

In compliance with Section 7 of the ESA, an endangered species list for the affected area of ocean dumping of ice piers from the NSF facility at McMurdo Station in Antarctica was requested by EPA and received from both the U. S. Fish and Wildlife Service (USF&WS) of the Department of the Interior, and the National Marine Fisheries Service (NMFS) of the U.S. Department of Commerce. No endangered, threatened, or candidate species are reported to potentially occur in the affected area.

EPA has discussed this matter with both the USF&WS and the NMFS pursuant to Section 7 of the ESA, and both agencies have agreed that the ocean dumping of ice piers by the NSF or its agents from McMurdo Station in Antarctica will have no effect on endangered or threatened species. EPA will consider any comments offered by either the USF&WS or the NMFS on this issue before promulgating a final general permit on the ocean dumping of ice piers.

Dated: May 3, 2011.
Paul Cough,
Director, Oceans and Coastal Protection Division.

Paul Cough,
Director, Oceans and Coastal Protection Division.

EPA proposes to re-issue a general permit for the NSF as follows:

Disposal of Ice Piers From McMurdo Station, Antarctica

The U.S. National Science Foundation and its agents are hereby granted a general permit under Sections 102(a) and 104(c) of the Marine Protection, Research, and Sanctuaries Act, 33 U.S.C. 1412(a) and 1414(c), to transport ice piers from McMurdo Station, Antarctica, for the purpose of ocean dumping, subject to the following conditions:

(1) The NSF shall have a spill prevention, control, and countermeasures (SPCC) plan in place, for the McMurdo Station ice pier. The SPCC plan shall address procedures for loading and unloading the following materials, and shall include methods to minimize the accidental release or discharge of any of these materials to the ice pier:

(a) Petroleum products unloaded from supply tankers to storage tanks at McMurdo Station;

(b) Drummed chemicals, petroleum products, and all materials unloaded from cargo freighters to supply depots at McMurdo Station; and

(c) All materials loaded to freighters destined to be returned to bases outside Antarctica.

(2) If a spill or discharge occurs on an ice pier, clean-up procedures must be completed by NSF or its contractors to a level below any visible evidence of the spill or discharge. All spills or discharges on an ice pier must be cleaned up within two hours of the spill or discharge, unless circumstances prevent cleanup within that time frame. In that event, the spill or discharge shall be cleaned up as soon as possible thereafter.

(3) As part of normal monitoring requirements, a record of the following information shall be kept by NSF:

(a) The date and time of all spills or discharges, the location of the spill or discharge, a description of the material that was spilled or discharged, the approximate volume of the spill or discharge, clean-up procedures employed, and the results of those procedures;

(b) The number of wooden poles remaining in the pier at the time of its release from McMurdo Station, and their approximate length;

(c) The approximate length of the steel cables remaining in the pier at the time of its release from McMurdo Station;

(d) Any other non-ice materials remaining on the pier at the time of its release from McMurdo Station; and

(e) The date of detachment of the pier from McMurdo Station, and the geographic coordinates (latitude and longitude) of the point of final release of the pier in McMurdo Sound or the Antarctic Sea.

(4) The non-embedded ends of all wooden utility poles or bollards shall be cut off from the ice pier prior to disposal, and shall not be disposed of in the ocean.

(5) Prior to the ocean dumping of any ice piers, the NSF shall take the following actions:

(a) Other than the matter physically embedded in the ice pier (such as the ends of wooden light poles frozen in the pier, and the strengthening steel cables), all other objects (including the non-embedded portions of the wooden poles used for lighting, power, or telephone connections, and any removable cables, equipment debris, or objects of anthropogenic origin), shall be removed from the ice pier prior to dumping;

(b) The gravel non-slip surface of the ice pier shall be removed to the maximum extent possible, and shall be stored on the mainland for subsequent use during the next operating season; and

(c) A methodology to track any ice piers released from McMurdo Station shall be established and utilized for a period of one year from the date of release of the ice pier. The results of these tracking efforts shall be included in the annual reports that the NSF is required to submit to the Agency.

(6) The NSF shall submit a report by June 30 of every year to the Director, Oceans and Coastal Protection Division, Office of Water, 1200 Pennsylvania Avenue, N.W., Washington, DC 20460, on:

(a) Any spills, discharges, or clean-up procedures on the ice pier at McMurdo Station;

(b) Any ocean dumping of ice piers from McMurdo Station; and

(c) Any tracking efforts of ice piers released from McMurdo Station under this general permit, for the year preceding the date of the annual report.

(7) For the purpose of this permit, the term “ice pier(s)” means those man-made ice structures containing embedded steel cable, wooden pole ends, and any remaining gravel frozen into the surface of the pier, that are constructed at McMurdo Station, Antarctica, for the purpose of off-loading the annual provisions of fuel, supplies, and materiel for use by NSF activities in Antarctica, as well as for the purpose of loading the previous year's accumulation of wastes, which can be returned to the United States for recycling and disposal.

(8) This permit shall be valid until (month)(day), 2018.

[FR Doc. 2011-11211 Filed 5-6-11; 8:45 am]

BILLING CODE 6560-50-P